DEPARTMENT OF TRANSPORTATION

Maritime Administration

[Docket Number: MARAD-2001-9586]

Requested Administrative Waiver of the Coastwise Trade Laws

AGENCY: Maritime Administration, Department of Transportation.

ACTION: Invitation for public comments on a requested administrative waiver of the Coastwise Trade Laws for the vessel ANTARES.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before June 4, 2001.

ADDRESSES: Comments should refer to docket number MARAD-2001-9586. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested. Name of vessel: ANTARES. Owner: Carl W. Roth.

(2) Size, capacity and tonnage of vessel. According to the applicant: “Gross tonnage: 16 tons, Net tonnage: 14 tons, Length: 40.8 feet, Breadth: 14.1 feet, Depth: 5.6 feet “

(3) Intended use for vessel, including geographic region of intended operation and trade. According to the applicant: “Passenger Charters of no more than 12 passengers. Plan to travel with this Vessel in U.S. waters in the Gulf of Mexico, Atlantic Ocean, and Great Lakes and would like to offer “part-time” charter services to interested passengers. Minimally requesting a waiver for the “Primary Region” which encompass the waters of the vessel's Home Port. Would also like to have the waiver encompass “Secondary Regions A, B, & C” for flexibility in offering “part-time” charter services in those waters as well.

a. Primary Region: Florida Atlantic and Gulf coastal and inland waters tributary thereto of the U.S. (From Pensacola, Florida to Fernandina Beach, Florida)

b. Secondary Region A: Gulf of Mexico coastal and inland waters tributary thereto of the U.S. (From Brownsville, Texas to Pensacola, Florida)

c. Secondary Region B: Atlantic coastal and inland waters tributary thereto of the U.S. (From Fernandina Beach, Florida to Eastport, Maine)

d. Secondary Region C: Great Lakes (Lake Ontario from Cape Vincent, NY to Niagara Falls, NY; Lake Erie from Buffalo, NY to Toledo, Ohio; Lake Huron From Port Huron, Michigan to Mackinaw City, Michigan; Lake Michigan from Mackinaw City, Michigan to Chicago, Illinois; and Lake Superior from Sault Ste. Marie, Michigan to Duluth, Minnesota) waters tributary thereto of the U.S.”

(4) Date and Place of construction and (if applicable) rebuilding. Date of construction: 1984. Place of construction: St. Hilaire de Riez, France.

(5) A statement on the impact this waiver will have on other commercial passenger vessel operators. According to the applicant: “I believe that granting this waiver will not unduly adversely affect any of the 3300-3500 sailboat charter companies offering potentially comparable services in these Regions. The “part-time” nature of my single vessel charter services and geographic distribution should minimize any adverse economic impacts to other operators. The following estimates were identified researching companies providing sailboat charter, boat building/repairing, and commercial shipyard services in the Regions of interest.

a. Primary Region: Estimate approximately 950-1000 sailboat charter companies offering boats, 1500-1600 boat building/repair companies and 8-10 companies offering commercial shipyard services in this Region.

b. Secondary Region A: Estimate approximately 650-700 sailboat charter companies offering boats, 1000-1100 boat building/repair companies and 35-40 companies offering commercial shipyard services in this region.

c. Secondary Region B: Estimate approximately 1250-1300 sailboat charter companies offering boats, 2200-2300 boat building/repair companies and 20-25 companies offering commercial shipyard services in this Region.

d. Secondary Region C: Estimate approximately 450-500 sailboat charter companies offering boats, 1700-1800 boat building/repair companies and 5-10 companies offering commercial shipyard services in this Region.”

(6) A statement on the impact this waiver will have on U.S. shipyards. According to the applicant: “I believe that granting this waiver will not unduly adversely affect any of the 75-80 commercial U.S. Shipyards identified since they support much larger vessels.”

Dated: April 30, 2001.
By Order of the Maritime Administrator.
Joel C. Richard,
Secretary, Maritime Administration.

[FR Doc. 01-11266 Filed 5-3-01; 8:45 am]

BILLING CODE 4910-81-P